DEPARTMENT OF AGRICULTURE

Animal and Plant Health Inspection Service

7 CFR Part 354

[Docket No. APHIS-2009-0048]

RIN 0579-AC99

User Fees for Agricultural Quarantine and Inspection Services; Public Meeting

AGENCY: Animal and Plant Health Inspection Service, USDA.

ACTION: Notice of public meeting.

SUMMARY: We are informing the public of an upcoming meeting to address affected stakeholders' questions and concerns regarding the agricultural quarantine and inspection user fee increases scheduled to go into effect on November 1, 2009. The meeting is being organized by the Animal and Plant Health Inspection Service.

DATES: The meeting will be held on October 27, 2009, from 9 a.m. to 1 p.m. Registration will begin at 8:30 a.m.

ADDRESSES: The public meeting will be held in the USDA Center at Riverside, 4700 River Road, Riverdale, MD.

FOR FURTHER INFORMATION CONTACT: Mr. William E. Thomas, Director, Quarantine Policy, Analysis, and Support, PPQ, APHIS, 4700 River Road, Unit 131, Riverdale, MD 20737; (301) 734-5214.

SUPPLEMENTARY INFORMATION: In an interim rule ¹ published in the Federal Register on September 28, 2009 (74 FR 49311-49315, Docket No. APHIS-2009-0048), we amended the user fee regulations in 7 CFR part 354 by adjusting the fees charged for certain agricultural quarantine and inspection (AQI) services that are provided in connection with certain commercial vessels, commercial trucks, commercial railroad cars, commercial aircraft, and international airline passengers arriving at ports in the customs territory of the United States. In the interim rule, we explained that the recent downturn in the U.S. economy has negatively impacted travel volumes, and, as a result, our user fee collections, which fund these services, have diminished. Although the volume of international travel and trade has decreased, inspection and related support services continue to be provided at their existing levels, so expenses have not decreased. As a result, our user fee collections have not been sufficient to enable us to provide those services and maintain a reasonable reserve balance. We therefore found it necessary to increase our AQI user fees in order to provide adequate funds for these purposes.

¹ To view and comment upon the interim rule and its supporting documents, go to http://www.regulations.gov/fdmspublic/component/main?main=DocketDetail&d=APHIS-2009-0048.

The interim rule was scheduled to become effective on October 1, 2009. However, we subsequently published a document in the Federal Register on October 2, 2009 (74 FR 50915, Docket No. APHIS-2009-0048), in which we delayed the effective date of the user fee increases until November 1, 2009. This delay was intended to provide entities affected by the changes in AQI user fees additional time to make the necessary preparations to comply with the new fees. In conjunction with the delay, we held a public meeting on October 15, 2009, in Riverdale, MD. Transcripts of that meeting are available for viewing on the Regulations.gov Web site.²

² See footnote 1.

APHIS will continue to accept public comments on the interim rule until November 27, 2009. In order to gather additional feedback and to address questions and concerns that stakeholders potentially affected by the AQI user fee increases may have, we plan to hold a second public meeting. The public meeting will be held on Tuesday, October 27, 2009, in the USDA Center at Riverside, 4700 River Road, Riverdale, MD. Registration will begin at 8:30 a.m. The public meeting will begin at 9 a.m. and is scheduled to end at 1 p.m. Additional information regarding the meeting may be obtained from the person listed under FOR FURTHER INFORMATION CONTACT.

Security Procedures

Upon entering the building, visitors should inform security personnel that they are attending the AQI user fee public meeting. State-issued photo identification is required and all bags will be screened. Security personnel will direct visitors to the registration tables located outside of the conference center on the first floor. Registration upon arrival is required for all participants.

Done in Washington, DC, this 20th day of October 2009.
Kevin Shea,
Acting Administrator, Animal and Plant Health Inspection Service.

[FR Doc. E9-25548 Filed 10-22-09; 8:45 am]

BILLING CODE 3410-34-P